CORPORATION FOR NATIONAL AND COMMUNITY SERVICE

Revised Due Date for New Tribal Applications for Assistance Under AmeriCorps*State/National

AGENCY: Corporation for National and Community Service.

ACTION: Notice.

SUMMARY: We have extended the deadline for new applications by Indian tribes for assistance under AmeriCorps*State/National. The new deadline is June 1, 2001.

FOR FURTHER INFORMATION CONTACT: Shelly Ryan, (202) 606-5000, ext. 549 or sryan@cns.gov. T.D.D. (202) 565-2799. For individuals with disabilities, we will make this information available in alternative formats upon request.

Dated: April 3, 2001.
Peter Heinaru,
Director, AmeriCorps*State/National.

[FR Doc. 01-8542 Filed 4-5-01; 8:45 am]

BILLING CODE 6050-$$-P